DEPARTMENT OF HOMELAND SECURITY

Federal Emergency Management Agency

[Docket ID FEMA-2017-0002; Internal Agency Docket No. FEMA-B-1719]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: May 2, 2017.
Roy E. Wright,
Deputy Associate Administrator for Insurance and Mitigation, Department of Homeland Security, Federal Emergency Management Agency.

State and county | Location and case No. | Chief executive officer of community | Community map repository | Online location of letter of map revision | Effective date of modification | Community No.
Arizona:
Maricopa | City of Goodyear (16-09-2737P) | The Honorable Georgia Lord, Mayor, City of Goodyear, 190 North Litchfield Road, Goodyear, AZ 85338 | Engineering Department, 14455 West Van Buren Street, Suite D 101, Goodyear, AZ 85338 | http://www.msc.fema.gov/lomc | Jul. 28, 2017 | 040046
Maricopa | City of Peoria (16-09-2450P) | The Honorable Cathy Carlat, Mayor, City of Peoria, 8401 West Monroe Street, Peoria, AZ 85345 | City Hall, 8401 West Monroe Street, Peoria, AZ 85345 | http://www.msc.fema.gov/lomc | Jul. 14, 2017 | 040050
Maricopa | Unincorporated Areas of Maricopa County (16-09-2450P) | The Honorable Denny Barney, Chairman, Board of Supervisors, Maricopa County, 301 West Jefferson Street, 10th Floor, Phoenix, AZ 85003 | Flood Control District of Maricopa County, 2801 West Durango Street, Phoenix, AZ 85009 | http://www.msc.fema.gov/lomc | Jul. 14, 2017 | 040037
Pinal | City of Maricopa (16-09-1250P) | The Honorable Christian Price, Mayor, City of Maricopa, 39700 West Civic Center Plaza, Maricopa, AZ 85138 | City Hall, 45145 West Madison Avenue, Maricopa, AZ 85139 | http://www.msc.fema.gov/lomc | Jul. 7, 2017 | 040052
California:
Alameda | City of Fremont (16-09-3152P) | The Honorable Lily Mei, Mayor, City of Fremont, 3300 Capitol Avenue, Fremont, CA 94538 | City Hall, 39550 Liberty Street, Fremont, CA 94538 | http://www.msc.fema.gov/lomc | Jul. 17, 2017 | 065028
San Diego | City of San Diego (15-09-2666P) | The Honorable Kevin L. Faulconer, Mayor, City of San Diego, 202 C Street, 11th Floor, San Diego, CA 92101 | Development Services Department, 1222 1st Avenue, 3rd Floor, MS 301, San Diego, CA 92101 | http://www.msc.fema.gov/lomc | Jul. 24, 2017 | 060295
San Diego | City of San Diego (16-09-2873P) | The Honorable Kevin L. Faulconer, Mayor, City of San Diego, 202 C Street, 11th Floor, San Diego, CA 92101 | Development Services Department, 1222 1st Avenue, 3rd Floor, MS 301, San Diego, CA 92101 | http://www.msc.fema.gov/lomc | Jul. 7, 2017 | 060295
Illinois:
Lake | City of Highland Park (16-05-6565P) | The Honorable Nancy R. Rotering, Mayor, City of Highland Park, 1707 St. Johns Avenue, Highland Park, IL 60035 | Public Services Building, 1150 Half Day Road, Highland Park, IL 60035 | http://www.msc.fema.gov/lomc | Jul. 28, 2017 | 170367
Lake | Village of Deerfield (16-05-6565P) | The Honorable Harriet Rosenthal, Mayor, Village of Deerfield, 850 Waukegan Road, Deerfield, IL 60015 | Village Hall, 850 Waukegan Road, Deerfield, IL 60015 | http://www.msc.fema.gov/lomc | Jul. 28, 2017 | 170361
Lake | Village of Mundelein (16-05-6526P) | The Honorable Steve Lentz, Mayor, Village of Mundelein, 300 Plaza Circle, Mundelein, IL 60060 | Village Hall, 300 Plaza Circle, Mundelein, IL 60060 | http://www.msc.fema.gov/lomc | Jul. 28, 2017 | 170382
Will | City of Joliet (17-05-2357P) | The Honorable Robert O'Dekirk, Mayor, City of Joliet, 150 West Jefferson Street, Joliet, IL 60432 | City Hall, 150 West Jefferson Street, Joliet, IL 60432 | http://www.msc.fema.gov/lomc | Jul. 13, 2017 | 170702
New Jersey:
Monmouth | Borough of Highlands (16-02-2118P) | The Honorable Rick O'Neil, Mayor, Borough of Highlands, 42 Shore Drive, Highlands, NJ 07732 | Highlands Borough Hall, 171 Bay Avenue, Highlands, NJ 07732 | http://www.msc.fema.gov/lomc | Jul. 19, 2017 | 345297
Ohio: Warren | City of Mason (17-05-1582P) | The Honorable Victor Kidd, Mayor, City of Mason, 6000 Mason-Montgomery Road, Mason, OH 45040 | Municipal Building, 6000 Mason-Montgomery Road, Mason, OH 45040 | http://www.msc.fema.gov/lomc | Jul. 31, 2017 | 390559
Oregon:
Lane | City of Eugene (17-10-0426P) | The Honorable Lucy Vinis, Mayor, City of Eugene, 125 East 8th Avenue, 2nd Floor, Eugene, OR 97401 | Planning Department, 99 West 10th Avenue, Eugene, OR 97401 | http://www.msc.fema.gov/lomc | Jul. 31, 2017 | 410122
Multnomah | City of Portland (16-10-0985P) | The Honorable Charlie Hales, Mayor, City of Portland, 1221 Southwest 4th Avenue, Suite 340, Portland, OR 97204 | Bureau of Environmental Services, 1221 Southwest 4th Avenue, Room 230, Portland, OR 97204 | http://www.msc.fema.gov/lomc | May 23, 2017 | 410183
Texas:
Collin | City of Celina (16-06-2499P) | The Honorable Sean Terry, Mayor, City of Celina, 142 North Ohio Street, Celina, TX 75009 | City Hall, 320 West Walnut Street, Celina, TX 75009 | http://www.msc.fema.gov/lomc | Jul. 17, 2017 | 480133
Collin | Unincorporated Areas of Collin County (16-06-2499P) | The Honorable Keith Self, Mayor, Collin County, Collin County Administration Building, 2300 Bloomdale Road, Suite 4192, McKinney, TX 75071 | Collin County, Department of Public Works, 210 South McDonald Street, McKinney, TX 75069 | http://www.msc.fema.gov/lomc | Jul. 17, 2017 | 480130
Dallas | City of Dallas (16-06-2638P) | The Honorable Michael S. Rawlings, Mayor, City of Dallas, 1500 Marilla Street, Suite 5EN, Dallas, TX 75201 | Department of Public Works, 320 East Jefferson Boulevard, Room 321, Dallas, TX 75203 | http://www.msc.fema.gov/lomc | Jul. 21, 2017 | 480171
Dallas | City of Garland (16-06-2638P) | The Honorable Douglas Athas, Mayor, City of Garland, 200 North 5th Street, Garland, TX 75040 | City Hall, 800 Main Street, Garland, TX 75040 | http://www.msc.fema.gov/lomc | Jul. 21, 2017 | 485471
Dallas | City of Mesquite (16-06-2638P) | The Honorable Stan Pickett, Mayor, City of Mesquite, 757 North Galloway Avenue, Mesquite, TX 75185 | City Engineering Services, 1515 North Galloway Avenue, Mesquite, TX 75185 | http://www.msc.fema.gov/lomc | Jul. 21, 2017 | 485490
Dallas | City of Wilmer (17-06-0411P) | The Honorable Casey Burgess, Mayor, City of Wilmer, 128 North Dallas Avenue, Wilmer, TX 75172 | City Hall, 128 North Dallas Avenue, Wilmer, TX 75172 | http://www.msc.fema.gov/lomc | Jul. 28, 2017 | 480190
Dallas | Unincorporated Areas of Dallas County (17-06-0411P) | The Honorable Clay L. Jenkins, County Judge, Dallas County, 411 Elm Street, Dallas, TX 75202 | Dallas County Records Building, 509 Main Street, Dallas, TX 75202 | http://www.msc.fema.gov/lomc | Jul. 28, 2017 | 480165
Virginia: Fairfax | Unincorporated Areas of Fairfax County (17-03-0842P) | Mr. Edward L. Long, Jr., Fairfax County Executive, 12000 Government Center Parkway, Fairfax, VA 22035 | Community Map Repository/Stormwater Planning, 12000 Government Center Parkway, Suite 449, Fairfax, VA 22035 | http://www.msc.fema.gov/lomc | Jul. 28, 2017 | 515525

[FR Doc. 2017-10177 Filed 5-18-17; 8:45 am]

BILLING CODE 9110-12-P